DEPARTMENT OF ENERGY

Federal Energy Regulatory Commission

[Docket No. RP03-200-001]

Enbridge Pipelines (Midla) L.L.C.; Notice of Compliance Filing

February 13, 2004.

Take notice that on February 10, 2004, Enbridge Pipelines (Midla) L.L.C. (Midla) tendered for filing as part of its FERC Gas Tariff, Fifth Revised Volume No. 1, the following tariff sheets, to be made effective January 29, 2004:

Second Revised Sheet No. 130

Substitute First Revised Sheet No. 139

First Revised Sheet No. 167

Midla states that the purpose of the filing is to comply with the Commission's Order dated January 29, 2004, in Docket No. RP03-200-000.

Any person desiring to protest said filing should file a protest with the Federal Energy Regulatory Commission, 888 First Street, NE., Washington, DC 20426, in accordance with § 385.211 of the Commission's rules and regulations. All such protests must be filed in accordance with § 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-335 Filed 2-19-04; 8:45 am]

BILLING CODE 6717-01-P